DEPARTMENT OF HEALTH AND HUMAN SERVICES

Health Resources and Services Administration

Meeting of the Advisory Council on Blood Stem Cell Transplantation

AGENCY: Health Resources and Services Administration (HRSA), Department of Health and Human Services (HHS).

ACTION: Notice.

SUMMARY: In accordance with the Federal Advisory Committee Act, this notice announces that the Secretary's Advisory Council on Blood Stem Cell Transplantation (ACBSCT) has scheduled a public meeting. Information about ACBSCT and the agenda for this meeting can be found on the ACBSCT website at https://bloodstemcell.hrsa.gov/about/advisory-council.

DATES: September 25, 2020, from 12:00 p.m.-6:00 p.m. Eastern Time (ET).

ADDRESSES: This meeting will be held by webinar and conference call. The webinar link, conference call-in number, registration information, and meeting materials can be accessed through the registration link on the ACBSCT website at https://bloodstemcell.hrsa.gov/about/advisory-council.

FOR FURTHER INFORMATION CONTACT: Robert Walsh, Designated Federal Official, (DFO), at Division of Transplantation, HRSA, 5600 Fishers Lane, Rockville, Maryland 20857; 301-443-6839; or ACBSCTHRSA@hrsa.gov.

SUPPLEMENTARY INFORMATION: ACBSCT provides advice and recommendations to the Secretary of HHS (Secretary) and the HRSA Administrator on the activities of the C.W. Bill Young Cell Transplantation Program (CWBYCTP) and the National Cord Blood Inventory (NCBI) Program. The principal purpose of these programs is to make blood stem cells from adult donors and cord blood units available for patients who need a transplant to treat life-threatening conditions such as leukemia, and who lack a suitably matched relative who can be the donor.

During the September 25, 2020, meeting, the ACBSCT will receive updates on the operation of the CWBYCTP and the NCBI and discuss cord blood as a continued source of blood stem cells for transplant in the context of other available sources of blood stem cells for transplant. Agenda items are subject to change as priorities dictate. Refer to the ACBSCT website for any updated information concerning the meeting.

Members of the public will have the opportunity to provide comments. Public participants may submit written statements in advance of the scheduled meeting. Oral comments will be honored in the order they are requested and may be limited as time allows. Requests to submit a written statement or make oral comments to ACBSCT should be sent to Robert Walsh, DFO, using the contact information above at least three business days prior to the meeting.

Individuals who plan to attend and need special assistance or another reasonable accommodation should notify Robert Walsh at the address and phone number listed above at least 10 business days prior to the meeting.

Maria G. Button,
Director, Executive Secretariat.

[FR Doc. 2020-19690 Filed 9-4-20; 8:45 am]

BILLING CODE 4165-15-P